DEPARTMENT OF LABOR

[Agency Docket Number DOL-2018-0005]

Notice of Publication of 2018 Update to the Department of Labor's List of Goods Produced by Child Labor or Forced Labor

AGENCY: Office of the Secretary, Bureau of International Labor Affairs, Department of Labor.

ACTION: Announcement of public availability of updated list of goods.

SUMMARY: This notice announces the publication of an updated list of goods—along with countries of origin—that the Bureau of International Labor Affairs (ILAB) has reason to believe are produced by child labor or forced labor in violation of international standards (TVPRA List). ILAB is required to develop and make available to the public the TVPRA List pursuant to the Trafficking Victims Protection Reauthorization Act (TVPRA) of 2005, as amended.

FOR FURTHER INFORMATION CONTACT: Rachel Rigby, Office of Child Labor, Forced Labor, and Human Trafficking, Bureau of International Labor Affairs, U.S. Department of Labor, at (202) 693-4843 (this is not a toll-free number).

SUPPLEMENTARY INFORMATION: The Bureau of International Labor Affairs (ILAB) announces the publication of the eighth edition of the List of Goods Produced by Child Labor or Forced Labor (TVPRA List), pursuant to the Trafficking Victims Protection Reauthorization Act (TVPRA) of 2005, as amended. ILAB published the initial TVPRA List on September 10, 2009, and has since published seven updated editions. The 2018 edition adds 10 new goods (amber, bovines, cabbages, carrots, cereal grains, lettuce, mica, peppers, sheep, and sweet potatoes) from particular countries and one new country (Eswatini) to the TVPRA List. This edition also features the removal from the TVPRA List of physic nuts from Burma produced by forced labor, sugarcane from Panama produced by child labor, and cotton from both Paraguay and Uzbekistan produced by child labor.

Section 105(b) of the TVPRA mandates that ILAB develop and publish a list of goods from countries that ILAB “has reason to believe are produced by forced labor or child labor in violation of international standards.” 22 U.S.C. 7112(b)(2). ILAB's Office of Child Labor, Forced Labor, and Human Trafficking (OCFT) carries out this mandate. The primary purposes of the TVPRA List are to raise public awareness about the incidence of child labor and forced labor in the production of goods in the countries listed and to promote efforts to eliminate such practices. A full report, including the updated TVPRA List and a discussion of the TVPRA List's methodology, as well as Frequently Asked Questions and a bibliography of sources, are available on the Department of Labor website at: http://www.dol.gov/ilab/reports/child-labor/list-of-goods/.

Authority: 22 U.S.C. 7112(b)(2)(C).

Signed at Washington, DC, this 13th day of September 2018.
Martha E. Newton,
Deputy Undersecretary for International Affairs.

[FR Doc. 2018-20391 Filed 9-19-18; 8:45 am]

BILLING CODE 4510-28-P